DEPARTMENT OF LABOR

Employment and Training Administration

[TA-W-73,681]

Premier Trim, LLC, Spectrum Trim, LLC and Grant Products International, Inc. D/B/A Spectrum Grant De Mexico Including Workers Whose Unemployment Insurance (UI) Wages Are Paid Through Grant Products International, Inc. Manufacturing Division Including On-Site Leased Workers From Expess Employment Professionals and Select Staff Brownsville, TX; Amended Certification Regarding Eligibility To Apply for Worker Adjustment Assistance

In accordance with section 223 of the Trade Act of 1974, as amended (“Act”), 19 U.S.C. 2273, the Department of Labor issued a Certification of Eligibility to Apply for Worker Adjustment Assistance on June 25, 2010, applicable to workers of Premier Trim, LLC and Spectrum Trim, LLC, d/b/a Spectrum Grant De Mexico, Manufacturing Division, including on-site leased workers from Express Employment Professionals and Select Staff, Brownsville, Texas. The workers are engaged in activities related to the production of wood steering wheels. The notice was published in the Federal Register on July 7, 2010 (75 FR 39047).

At the request of the State agency, the Department reviewed the certification for workers of the subject firm.

Information shows that as of January 29, 2010, Premier Trim, LLC, Spectrum Trim, LLC and Grant Products International, Inc. have merged and are officially one company under the name of Spectrum Grant de Mexico. Some workers separated from employment at the Brownsville, Texas location of Premier Trim, LLC and Spectrum Trim, LLC and Grant Products International, Inc. d/b/a Spectrum Grant de Mexico had their wages reported under a separate unemployment insurance (UI) tax account under the name Grant Products International, Inc.

Accordingly, the Department is amending this certification to properly reflect this matter.

The intent of the Department's certification is to include all workers of the subject firm who were adversely affected by a shift in the production of wood steering wheels to Mexico.

The amended notice applicable to TA-W-73,681 is hereby issued as follows:

All workers of Premier Trim, LLC, Spectrum Trim, LLC and Grant Products International, Inc., d/b/a Spectrum Grant de Mexico, including workers whose unemployment insurance (UI) wages are paid through Grant Products International, Inc., Manufacturing Division, including on-site leased workers from Express Employment Professionals and Select Staff, Brownsville, Texas, who became totally or partially separated from employment on or after March 10, 2009, through June 25, 2012, and all workers in the group threatened with total or partial separation from employment on date of certification through two years from the date of certification, are eligible to apply for adjustment assistance under Chapter 2 of Title II of the Trade Act of 1974, as amended.

Signed at Washington, DC, this 1st day of November 2011.
Michael W. Jaffe,
Certifying Officer, Office of Trade Adjustment Assistance.

[FR Doc. 2011-30382 Filed 11-25-11; 8:45 am]

BILLING CODE 4510-FN-P